INTERNATIONAL TRADE COMMISSION

[Investigation No. 337-TA-912]

Certain Earpiece Devices Having Positioning and Retaining Structure and Components Thereof; Commission Decision Not To Review an Initial Determination Terminating the Investigation Based on a Settlement Agreement; Termination of the Investigation

AGENCY: U.S. International Trade Commission.

ACTION: Notice.

SUMMARY: Notice is hereby given that the U.S. International Trade Commission has determined not to review the presiding administrative law judge's (“ALJ”) initial determination (“ID”) (Order No. 16) terminating the investigation based on a settlement agreement.

FOR FURTHER INFORMATION CONTACT: Robert Needham, Office of the General Counsel, U.S. International Trade Commission, 500 E Street SW., Washington, DC 20436, telephone (202) 708-5468. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on April 3, 2014, based on a complaint filed on behalf of Bose Corporation of Framingham, Massachusetts (“Bose”). 79 FR 18696 (April 3, 2014). The complaint alleges violations of section 337 based upon the importation into the United States, the sale for importation, and the sale within the United States after importation of certain earpiece devices having positioning and retaining structure and components thereof by reason of infringement of certain claims of U.S. Patent No. 8,311,253. Id. The notice of investigation named as respondents Monster, Inc. of Brisbane, California; Monster, LLC of Las Vegas, Nevada; and Monster Technology International, Ltd. of Ennis, Ireland (collectively “Monster”). Id. The Office of Unfair Import Investigations is not participating in this investigation. Id.

On October 24, 2014, Bose and Monster filed a joint motion to terminate the investigation based on a settlement agreement. The parties submitted the settlement agreement, and indicated that there are no other agreements, written or oral, express or implied, between the parties concerning the subject matter of this investigation. The parties also stated that terminating the investigation was in the public interest to conserve the parties' and the Commission's resources.

On October 28, 2014, the ALJ issued the subject ID, granting the parties' motion and terminating the investigation. The ALJ found that the motion complied with the Commission's rules and that terminating the investigation was in the public interest. No petitions of the ID were filed.

The Commission has determined not to review the subject ID. This determination terminates the investigation, and renders moot the ALJ's initial determination on Monster's inequitable conduct defense. See Order No. 15 (Oct. 6, 2014).

The authority for the Commission's determination is contained in section 337 of the Tariff Act of 1930, as amended (19 U.S.C. 1337), and in Part 210 of the Commission's Rules of Practice and Procedure (19 CFR Part 210).

Issued: November 10, 2014.
By order of the Commission.
Lisa R. Barton,
Secretary to the Commission.

[FR Doc. 2014-26973 Filed 11-13-14; 8:45 am]

BILLING CODE 7020-02-P